DEPARTMENT OF JUSTICE

Federal Bureau of Investigation

[OMB Number 1110-NEW]

Agency Information Collection Activities; Proposed eCollection eComments Requested; Existing Collection in Use Without and OMB Number FBI Hazardous Devices School Application

AGENCY: Hazardous Device School Critical Incident Response Group, Federal Bureau of Investigation, Department of Justice.

ACTION: 60-Day notice.

SUMMARY: The Department of Justice (DOJ), Federal Bureau of Investigation (FBI), Critical Incident Response Group (CIRG), Hazardous Devices School (HDS) will be submitting the following information collection request to the Office of Management and Budget (OMB) for review and approval in accordance with the Paperwork Reduction Act of 1995. The proposed information collection is published to obtain comments from the public and affected agencies.

DATES: Comments are encouraged and will be accepted for 60 days until December 18, 2017.

FOR FURTHER INFORMATION CONTACT: If you have additional comments especially on the estimated public burden or associated response time, suggestions, or need a copy of the proposed information collection instrument with instructions or additional information, please contact Mark H. Wall, Supervisory Management and Program Analyst, FBI, Hazardous Devices School, 7010 Redstone Road, Huntsville, AL 35898.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Approval of a new collection.

2. The Title of the Form/Collection: Federal Bureau of Investigation Hazardous Devices School Course Application.

3. The agency form number, if any, and the applicable component of the Department sponsoring the collection: The form number FD-731. Federal Bureau of Investigation (FBI).

4. Affected public who will be asked or required to respond, as well as a brief abstract: This form is utilized by the FBI, Hazardous Devices School to information needed during a review process of the identification and qualification of prospective students, and to initiate a review of security clearance status prior to being granted access to law enforcement sensitive and classified facilities and information.

5. An estimate of the total number of respondents and the amount of time estimated for an average respondent to respond: It is estimated that 1000 respondents will complete each form within approximately 45 minutes.

6. An estimate of the total public burden (in hours) associated with the collection: There are an estimated 750 total annual burden hours associated with this collection.

If additional information is required contact: Melody Braswell, Department Clearance Officer, United States Department of Justice, Justice Management Division, Policy and Planning Staff, Two Constitution Square, 145 N Street NE., 3E.405A, Washington, DC 20530.

Dated: October 13, 2017.
Melody Braswell,
Department Clearance Officer for PRA, U.S. Department of Justice.

[FR Doc. 2017-22554 Filed 10-17-17; 8:45 am]

BILLING CODE 4410-02-P